DEPARTMENT OF ENERGY

Federal Energy Regulatory Commission

[Docket No. RM05-1-000]

Regulations Governing the Conduct of Open Seasons for Alaska Natural Gas Transportation Projects; Notice of Rulemaking Schedule

October 26, 2004.

Section 103(e) of the Alaska Natural Gas Pipeline Act of 2004, enacted into law on October 13, 2004, requires the Federal Energy Regulatory Commission to issue regulations governing the conduct of open seasons for Alaska natural gas transportation projects, as defined in that legislation, within 120 days of enactment, that is, by February 10, 2005. The Commission proposes the following tentative schedule for issuing the required regulations:

November 18, 2004—Commission issues Notice of Proposed Rulemaking, including draft of proposed regulations.

December 6-10, 2004 (exact date to be announced)—One-day public technical conference at a site to be determined in Alaska, to receive public comment on the proposed regulations.

December 17, 2004—Written comments due on Notice of Proposed Rulemaking.

February 9, 2005—Commission issues final rule.

The Commission will provide further public notice of the details of the rulemaking proceeding, including the date and location of the technical conference. For information about this proceeding, interested persons may go the e-Library link at the Commission's Web site, http://www.ferc.gov, and search under the docket number for this proceeding, Docket No. RM05-1. Any questions or comments about this proposed schedule may be directed to: Edwin Holden, 202-502-8089, or Edwin.Holden@ferc.gov.

Magalie R. Salas,
Secretary.

[FR Doc. 04-24470 Filed 11-2-04; 8:45 am]

BILLING CODE 6717-01-P